DEPARTMENT OF ENERGY

Energy Information Administration

Notice of Intent To Release Information About Uranium Mines and Properties in the United States to Other Federal Agencies for Official Uses

AGENCY: Energy Information Administration (EIA), Department of Energy (DOE).

ACTION: Notice of intent to release information about uranium mines and properties in the United States to other Federal government agencies for official uses.

SUMMARY: The Energy Information Administration (EIA) is notifying the public of its intent to release, upon request from Federal government agencies for official uses, information about uranium mines and properties in the United States. The information is considered confidential. Information that may be released includes: (1) The U.S. Uranium Mines and Properties Database containing information about former uranium mines and properties that were active in the period 1940-1983; and (2) Uranium Mining and Processing Survey Information collected during the period 1971-2001. Currently, EIA has requests from the Environmental Protection Agency (EPA) and the Department of Interior's Bureau of Land Management (BLM) for uranium mines and properties information. The EPA request is for information from both the Uranium Mines and Properties Database and from Uranium Mining and Processing Survey Information about decommissioned, abandoned, closed or inactive uranium mines, transfer stations, tailings, and leases located in Northeastern Arizona, Northwestern New Mexico, and Southeastern Utah on Navajo Nation tribal lands, Navajo fee lands, and Navajo allotted lands. The BLM request is for information in the Uranium Mines and Properties Database. Laws, including the Comprehensive Environmental Response, Compensation, and Liability Act, require that the Department provide the requested information to the EPA and BLM.

DATES: EIA plans to release uranium mines and properties information to other Federal agencies for their official uses on or after June 20, 2003. Comments must be filed by June 13, 2003. If you anticipate difficulty in submitting comments within that period, contact the person listed below as soon as possible.

ADDRESSES: Comments should be directed to Luther Smith. To ensure receipt of the comments by the due date, submission is recommended by FAX (202-287-1934) or e-mail at (Luther.Smith@eia.doe.gov). Alternatively, you may use the following mailing address: Luther Smith, EI-52/L'Enfant Plaza Building, U.S. Department of Energy, 1000 Independence Ave. SW, Washington, DC 20585-1615. Mr. Smith may also be contacted by telephone at (202) 287-1728.

FOR FURTHER INFORMATION CONTACT: Requests for additional information should be directed to Mr. Smith at the address listed above.

SUPPLEMENTARY INFORMATION:

I. Background

II. Current Actions

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. These laws also require EIA to disclose trade secrets and confidential statistical information to other Federal government departments, agencies, and officials for official use upon request.

In carrying out its mission, the EIA collects, compiles, and analyzes information on energy resources, production, demand, technology, and related economic and statistical information. The information is used to assess and report on the energy situation of the United States.

The EIA provides the public and Federal agencies with opportunity to comment on the energy-information projects conducted by EIA. EIA also, as appropriate, requests comments on important issues relevant to dissemination of its energy information. Comments received assist EIA in responding to requests for the energy information it has compiled from various sources.

The Uranium Mines and Properties Database information is based on the Federal government's Uranium Concentrate Procurement Program (1947-1970) and the related Uranium Ore Reserve Program (1947-1983). Throughout these programs, the Atomic Energy Commission (AEC) and successive Federal agencies obtained private-industry information that was needed to assure the success of the concentrate procurement and ore reserve programs. The AEC, Energy Research and Development Administration (ERDA), and DOE staff engineers and geologists also regularly monitored private-industry activities to assure the capability to prepare timely internal reports on uranium exploration, mining, reserves, concentrate production, and important industry activities. It is EIA's view that information requested in conjunction with these programs was provided to the Federal government with the understanding that it would be treated as confidential and not publicly released.

Management of the Uranium Concentrate Procurement Program, formerly under the Manhattan Engineer District of the Army Corps of Engineers, was transferred by early 1947 to the AEC as a key responsibility. The AEC's critical mission included the acquisition of uranium concentrates to meet defense needs and the development of a domestic uranium ore reserves base adequate to meet the future demand as then foreseen. The AEC began in 1947 a major program for uranium exploration and development of a domestic uranium mining industry. The program was designed to utilize the full-scale participation of mining-industry firms, small miners, and private prospectors, and its success required that exploration activities were maintained at a high level. Through financial incentives issued by the AEC, private industry was encouraged to explore for uranium deposits. The AEC also conducted exploration projects for uranium in selected areas and made the results from those projects available to the private sector. These actions succeeded in stimulating a rapid rate of private industry participation by providing supporting services and information to the private sector. During the Uranium Concentrate Procurement Program, the AEC and successive agencies issued announcements that redirected the program or established new incentives as required to achieve the long term goals of the concentrate procurement effort. These announcements, in varying degree, altered the Federal government's informational requirements for the on-going uranium procurement and ore reserve programs.

The Uranium Ore Reserve Program was complementary to the Uranium Concentrate Procurement Program. The Uranium Ore Reserve Program dealt initially with the quantity and quality of uranium reserves on mining properties tributary to uranium mills, from which the AEC had contracted to buy uranium concentrates. The mills were to be amortized by the Government, generally in a short time period. AEC's responsibility was to assure that sufficient uranium ore to feed the mills existed on the tributary properties so the Government reasonably could expect to receive the amounts of uranium concentrate specified in the milling contracts and to assure that identified reserves were adequate for amortization of the milling projects proposed by industry firms.

The Uranium Ore Reserve Program's prime objective was collection of current and accurate information at that time on the supply of uranium ores in the Western United States. Assessment of the ore reserves for uranium deposits on individual properties required independent calculation of reserves by Federal government agency mining engineers. For this purpose, drill-hole and other engineering data for a large number of properties were made available to the government agencies by the mining companies.

In addition to quantitative data regarding ore reserves, data were also obtained about the deposits' physical locations, ownership, geological and geochemical characteristics, mining problems, and mining costs. Data were also routinely obtained about industry activities, including acquisition of land for uranium exploration, exploration and development activities, mine production of uranium ore, milling of ore, the costs associated with these activities, and the processing of uranium ore and production of concentrate. Data and costs for other activities were also obtained. The data for each uranium mine and property were compiled into an individual file (record). The files for all U.S. mines and properties (1940-1983) make up the database. The files may also contain official letters and documents, notes, and other specific information prepared by the government agency staff.

The government's uranium ore reserve effort, which began early in the Uranium Concentrate Procurement Program, was continued after 1970 when the procurement program was ended. Estimates of domestic uranium ore reserves and potential (undiscovered) resources made by the ERDA and DOE under the Uranium Ore Reserve Program were published annually by those agencies into early 1983.

Across all records in the mines and properties database, the quantity and quality of data, subject-matter, type of information, its relative completeness, and similarity of the information are variable. Some records contain a large amount of detailed, company and property-specific information, whereas other records contain more limited information. For the Uranium Mines and Properties Database, the list of identification codes for mine/property names contains about 8,700 ID-code/name combinations that were assigned for recording and tracking the mines and properties data. That number is believed to represent an approximate upper limit for the total number of records (files) created for uranium mine and property data during the Federal government programs.

The Uranium Mines and Properties Database contains historical, confidential information about the domestic uranium industry (1940-1983) that relates to, but is not limited to, the ownership of uranium mines and properties, ore reserves, mine development, mining operations, and ore and uranium concentrate production. The historical information is potentially helpful to other Federal agencies in reclamation projects at former uranium mine sites, processing sites, and related sites. Such uses may include, but are not limited to, documenting the history and nature of former site use and activities, determining the outlines of former mine (open pit and underground) areas and workings, and to potentially relocate sites of surface exploration boreholes.

The information obtained by the EIA in its Uranium Mining and Processing Surveys is submitted by domestic uranium mining and milling firms. The information is analyzed and disseminated by the EIA as non-company-specific information in a variety of printed and electronic-media products that are used by analysts and policymakers in the government and the private sector. (EIA's uranium information is available on its web site at http://www.eia.doe.gov/cneaf/nuclear/page/newuran.html.) The uranium industry information obtained in EIA's uranium surveys is not integrated with the U.S. Uranium Mines and Properties Database (1947-1983).

In addition to information obtained on its Uranium Mining and Processing Surveys, the EIA uses information contained in the Uranium Mines and Properties Database to annually prepare estimates of the domestic uranium ore reserve situation. The estimates of U.S. ore reserves made by the EIA are published annually in the “Uranium Industry Annual” report series (1985-2001); submitted to the Congress, the U.S. Department of Energy, and other Federal agencies as required; and periodically submitted to the Nuclear Energy Agency of the Organization for Economic Cooperation and Development and to the International Atomic Energy Agency.

II. Current Actions

The EIA is notifying the public of its intent to release, upon request from Federal government agencies for official use, information about uranium mines and properties in United States. The information is considered confidential. Information that may be released includes: (1) The U.S. Uranium Mines and Properties Database containing information about uranium mines and properties that were active in the period 1940-1983; and (2) Uranium Mining and Processing Survey Information collected during the period 1971-2001. Currently, EIA has requests from the Environmental Protection Agency (EPA) and the Department of Interior's Bureau of Land Management (BLM) for uranium mines and properties information. The EPA request is for information from both the Uranium Mines and Properties Database and from Uranium Mining and Processing Survey Information on decommissioned, abandoned, closed or inactive uranium mines, transfer stations, tailings, and leases located in Northeastern Arizona, Northwestern New Mexico, and Southeastern Utah on Navajo Nation tribal lands, Navajo fee lands, and Navajo allotted lands. The BLM request is for information in the Uranium Mines and Properties Database.

Release of the information to other Federal agencies is consistent with the Federal Energy Administration Act of 1974 (Pub. L. 93-275, 15 U.S.C. 761 et seq.) and the DOE Organization Act (Pub. L. 95-91, 42 U.S.C. 7101 et seq.) requirements for EIA to make trade secrets and confidential statistical information available to other Federal government departments, agencies, and officials for official use upon request. The information was provided to the Department of Energy, predecessor Federal agencies, and the EIA, with an understanding that the information would be treated as confidential and would not be publicly released in identifiable form. EIA would release the information to other Federal agencies in individually-identifiable format for official uses and with a stipulation that those agencies preserve the information's confidentiality.

For the Uranium Mines and Properties Database, the particular types of information that would be released to other Federal agencies upon request may include, but are not limited to, the following: name for the mine operator/owner; beginning date and ending date for mining operations; total production from the mine; mining methods; nature and extent of the surface plant; number of employees who worked at the mine and period; mills to which the mined ore was shipped; historical photographs of the mine during the time it was in operation; maps that show mine workings in plan view, the pit walls and bottoms for open pit mines, and the location and extent of any underground mine workings; and drill-site locations for surface boreholes.

For the Uranium Mining and Processing Survey Information, the particular types of information that would be released to other Federal agencies upon request may include, but are not limited to, exploration, development, reserves, production, milling, processing, and employment information collected in the years 1971-1981 by the DOE and predecessor agencies and in the period 1982-2001 by the EIA from domestic uranium industry companies on the “Annual Uranium Exploration Survey,” (Form EIA-717 and predecessor forms for 1971-1984), and Schedule A (Uranium Raw Materials Activities) of the “Uranium Industry Annual Survey,” (Form EIA-858 for 1984-2001.)

The release of uranium mines and properties information to other Federal agencies for their official uses will not expand uranium industry data that will be provided in EIA's information products. The EIA will continue to maintain the confidentiality of information collected on its survey forms and will continue to use its disclosure rules, which are designed to protect confidential data, and withhold sensitive data from publication in individually-identifiable form. EIA will also require that any Federal agencies receiving confidential information from EIA will treat the information appropriately.

Statutory Authority: Federal Energy Administration Act of 1974 (Pub. L. 93-275, 15 U.S.C. 761 et seq.) and the DOE Organization Act (Pub. L. 95-91, 42 U.S.C. 7101 et seq.).

Issued in Washington, DC, on May 13, 2003.
Jay H. Casselberry,
Agency Clearance Officer, Statistics and Methods Group, Energy Information Administration.

[FR Doc. 03-12434 Filed 5-16-03; 8:45 am]

BILLING CODE 6450-01-P